DEPARTMENT OF HOUSING AND URBAN DEVELOPMENT

[Docket No. FR-5194-N-16]

Notice of Proposed Information Collection for Public Comment; Inspector Candidate Assessment Questionnaire

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: December 15, 2008.

ADDRESSES: Interested persons are invited to submit comments regarding this proposal. Comments should refer to the proposal by name/or OMB Control number and should be sent to: Lillian L. Deitzer, Departmental Reports Management Officer, QDAM, Room 4176, Department of Housing and Urban Development, 451 7th Street, SW., Washington, DC 20410-5000: telephone: 202-402-8048 (this is not a toll-free number) or e-mail Ms. Deitzer at Lillian.L.Deitzer@hud.gov for a copy of the proposed form and other available information.

FOR FURTHER INFORMATION CONTACT: Mary Schulhof, Office of Policy, Programs and Legislative Initiatives, PIH, Room 4116, Department of Housing and Urban Development, 451 7th Street, SW., Washington, DC 20410-5000: telephone: (202) 708-0713, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Inspector Candidate Assessment Questionnaire.

OMB Control Number: 2577-0243.

Description of the need for the information and proposed use: To meet the requirements of the Uniform Physical Condition Standards and the Public Housing Assessment System (PHAS) rules, the Department conducts physical condition inspections of approximately 40,000 multifamily and public housing properties annually. To conduct these inspections, HUD uses contract inspectors that are trained in the Uniform Physical Condition Standards protocol and certified by HUD. Individuals who wish to be trained and certified by HUD are requested to electronically submit the questionnaire via the Internet. The questionnaire provides HUD with basic knowledge of an individual's inspection skills and abilities. No confidential information is being requested.

Agency form number, if applicable: Form HUD-50002.

Members of affected public: Individuals.

Estimation of the total number of hours needed to prepare the information collection including number of respondents: The estimated number of respondents is 800 individuals that submit one questionnaire. The average number for each individual response is 1 hour, for a total reporting burden of 800 hours.

Status of the proposed information collection: Revised.

Authority: Section 3506 of the Paperwork Reduction Act of 1995, 44 U.S.C. Chapter 35, as amended.

Dated: October 7, 2008.
Bessy Kong,
Deputy Assistant Secretary for Policy, Programs, and Legislative Initiatives, Public and Indian Housing.

[FR Doc. E8-24370 Filed 10-14-08; 8:45 am]

BILLING CODE 4210-67-P